DEPARTMENT OF TRANSPORTATION

Federal Aviation Administration

14 CFR Part 25

[Docket No. FAA-2014-0564; Special Conditions No. 25-573-SC]

Special Conditions: Dassault Aviation Model Falcon 900EX Airplane; Electronic System-Security Protection From Unauthorized External Access

AGENCY: Federal Aviation Administration (FAA), DOT.

ACTION: Final special conditions, request for comment; withdrawal.

SUMMARY: The FAA is withdrawing a previously published special conditions for the Dassault Aviation (Dassault) Model Falcon 900EX airplane. We are withdrawing the special conditions in response to Dassault's comments, submitted to the Federal Docket on December 5, 2014.

DATES: This withdrawal of special conditions is effective on Dassault on April 7, 2017.

FOR FURTHER INFORMATION CONTACT: Varun Khanna, FAA, Airplane and Flightcrew Interface Branch, ANM-111, Transport Airplane Directorate, Aircraft Certification Service, 1601 Lind Avenue SW., Renton, Washington 98057-3356; telephone (425) 227-1298; facsimile (425) 227-1320.

SUPPLEMENTARY INFORMATION:

Background

On November 14, 2014, the Federal Register published a Final Special Conditions, Request for Comment, Docket No. FAA-2014-0564, Special Conditions No. 25-573-SC (79 FR 68107), for the Dassault Model Falcon 900EX airplane on the subject of electronic system-security protection from unauthorized external access.

Note that the original publication of the special conditions incorrectly indicates, in the document header, Special Conditions No. 25-XXX-SC. This withdrawal document reflects the correct special conditions number.

Reason for Withdrawal

The FAA withdraws Special Conditions No. 25-573-SC after considering comments Dassault submitted during the public-comment period. Dassault's comment, in pertinent part, is as follows, with minor edits for clarity:

The Proposed Special Conditions indicate that they are applicable to the “new Model 900EX airplane.” This statement is factually wrong. Dassault believes that these special conditions were intended for a Dassault Aviation Services (DAS) supplemental type certificate (STC) regarding the replacement of the display unit on the Dassault Model 900EX airplane (FAA project number ST07490NY-T). Furthermore, previous discussions between the FAA and DAS led to the conclusion that the STC for the replacement of the display unit on the Dassault Model 900EX airplane (FAA project number ST07490NY-T) did not contain any changes involving the connectivity to the avionics system. Accordingly, there is no specific vulnerability to the systems due to the replacement of the display unit. Therefore, there was no novelty in the STC that would require the issuance of the proposed special conditions. The STC was approved in [2014] (ST03371NY) without any special conditions on this subject.

In view of the foregoing, Dassault Aviation respectfully requests that the FAA rescind [Special Conditions No. 25-573-SC].

The FAA agrees with Dassault's comments and withdraws the special conditions. These special conditions are not included in, and are not a part of, the type certificate for the Dassault Model Falcon 900EX airplane.

Conclusion

This action affects only the special conditions indicated above for the Dassault Model Falcon 900EX airplane.

In light of Dassault's comments, the FAA agrees that these special conditions are not necessary, and that withdrawal of the special conditions is not detrimental to the operation of the airplane. Accordingly, pursuant to the authority delegated to me by the Administrator, Special Conditions No. 25-573-SC is withdrawn.

The FAA finds that good cause exists to make this withdrawal of special conditions effective upon issuance.

Issued in Renton, Washington, on April 7, 2017.
Michael Kaszycki,
Assistant Manager, Transport Airplane Directorate, Aircraft Certification Service.

[FR Doc. 2017-09839 Filed 5-15-17; 8:45 am]

BILLING CODE 4910-13-P